DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Uncompensated Services Assurance Report (OMB No. 0915-0077)—Revision

Under the Hill-Burton Act, the Government provides grants and loans for construction or renovation of health care facilities. As a condition of receiving this construction assistance, facilities are required to provide services to persons unable to pay. A condition of receiving this assistance requires facilities to provide assurances periodically that the required level of uncompensated care is being provided, and that certain notification and record keeping procedures are being followed. These requirements are referred to as the uncompensated services assurance.

Estimate of Information Collection Burden

Type of requirement and regulatory citation | No. of respondents | Responses per respondent | Total responses | Hours per response | Total hour burden
Disclosure Burden (42 CFR)
Published Notices (124.504(c)) | 216 | 1 | 216 | 0.75 | 162
Individual Notices (124.504(c)) | 216 | 1 | 216 | 43.6 | 9,418
Determinations of Eligibility (124.507) | 216 | 216 | 46,656 | 0.75 | 34,992
Subtotal Disclosure Burden |  |  |  |  | 44,572
Reporting
Uncompensated Services Report—HRSA-710 Form (124.509(a)) | 10 | 1 | 10 | 11.0 | 110
Application for Compliance Alternatives:
Public Facilities (124.513) | 4 | 1 | 4 | 6.0 | 24
Small Obligation Facilities (124.514(c)) | 0 |  |  |  |
Charitable Facilities (124.516(c)) | 2 | 1 | 2 | 6.0 | 12
Annual Certification for Compliance Alternatives:
Public Facilities (124.509(b)) | 141 | 1 | 141 | 0.5 | 71
Charitable Facilities (124.509(b)) | 26 | 1 | 26 | 0.5 | 13
Small Obligation Facilities (124.509(c)) | 1 | 1 | 1 | 0.5 | 1
Complaint Information (124.511(a)):
Individuals | 10 | 1 | 10 | 0.25 | 3
Facilities | 10 | 1 | 10 | 0.5 | 5
Subtotal Reporting Burden |  |  |  |  | 239

Recordkeeping | Number of Recordkeepers | Hours per year | Total hour burden
Non-alternative Facilities (124.510(a)) | 216 | 50 | 10,800
Subtotal Recordkeeping Burden |  |  | 10,800

The total burden for this project is estimated to be 55,611 hours.

Send comments to Susan G. Queen, Ph.D., HRSA Reports Clearance Officer, Room 14-33, Parklawn Building, 5600 Fishers Lane, Rockville, MD 20857. Written comments should be received within 60 days of this notice.

Dated: September 17, 2002.
Jane M. Harrison,
Director, Division of Policy Review and Coordination.

[FR Doc. 02-24165 Filed 9-23-02; 8:45 am]

BILLING CODE 4165-15-P